DEPARTMENT OF TRANSPORTATION

Federal Aviation Administration

Approval of Noise Compatibility Program; Martin County Airport/Witham Field, Stuart, FL

AGENCY: Federal Aviation Administration, DOT.

ACTION: Notice.

SUMMARY: The Federal Aviation Administration (FAA) announces its findings on the Noise Compatibility Program submitted by Martin County under the provisions of 49 U.S.C. (the Aviation Safety and Noise Abatement Act, hereinafter referred to as “the Act”) and 14 CFR Part 150. These findings are made in recognition of the description of Federal and nonfederal responsibilities in Senate Report No. 96-52 (1980). On December 6, 2011, the FAA determined that the Noise Exposure Maps (NEM's) submitted by Martin County under Part 150 were in compliance with applicable requirements. On June 11, 2014, the FAA approved the Martin County Airport/Witham Field Noise Compatibility Program (NCP). Most of the recommendations of the program were approved.

DATES: Effective Date: The effective date of the FAA's approval of the Martin County Airport/Witham Field Noise Compatibility Program is June 11, 2014.

FOR FURTHER INFORMATION CONTACT: Allan Nagy, Federal Aviation Administration, Orlando Airports District Office, 5950 Hazeltine National Drive, Suite 400, Orlando, FL 32822, phone number: (407) 812-6331. Documents reflecting this FAA action may be reviewed at this same location.

SUPPLEMENTARY INFORMATION: This notice announces that the FAA has given its overall approval to the Noise Compatibility Program for Martin County Airport/Witham Field, effective June 11, 2014.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Title 14 Code of Federal Regulations (CFR) Part 150 is a local program, not a Federal Program. The FAA does not substitute its judgment for that of the airport operator with respect to which measure should be recommended for action. The FAA's approval or disapproval of 14 CFR Part 150 program recommendations is measured according to the standards expressed in 14 CFR Part 150 and the Act, and is limited to the following determinations:

a. The Noise Compatibility Program was developed in accordance with the provisions and procedures of 14 CFR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in 14 CFR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports District Office in Orlando, FL.

On September 17, 2011, Martin County submitted to the FAA the Noise Exposure Maps and associated documentation produced during the Noise Exposure Map planning study conducted from December 2010 through September 17, 2011. The Martin County Airport/Witham Field Noise Exposure Maps were determined by FAA to be in compliance with applicable requirements 14 CFR Part 150 on December 6, 2011. Notice of this determination was published in the Federal Register on December 16, 2011.

After the Noise Exposure Maps were accepted by the FAA, the Martin County Airport/Witham Field prepared a Noise Compatibility Program study that contains proposed operational and land use actions designed for phased implementation by airport management and adjacent jurisdictions. It was requested that FAA evaluate and approve this material as a Noise Compatibility Program as described in Section 47504 of the Act. The FAA began its formal review of the Program on December 18, 2013, and was required by a provision of the Act to approve or disapprove the Program within 180-days (other than the use of new or modified flight procedures for noise control). Failure to approve or disapprove such Program within the 180-day period shall be deemed to be an approval of such Program.

The submitted Program contained twenty-one (21) proposed actions for noise mitigation on and or off the airport. Of these twenty-one actions, the airport sponsor recommended seventeen mitigations measures for FAA review and approval. Four measures were not recommended by the airport sponsor. The FAA completed its review and determined that the procedural and substantive requirements of the Act and 14 CFR Part 150 have been satisfied. The overall program, therefore, was approved by the FAA effective June 11, 2014.

Outright FAA approval was granted for four (4) of the measures; approval on a voluntary basis was granted for six (6) of the measures; approval-in-part was granted for six (6) of the measures; a decision of disapproval was made for one (1) measure, and No FAA Action was required for four (4) of the measures because they were not recommended by the airport sponsor.

These determinations are set forth in detail in a Record of Approval (ROA) signed by the FAA on June 11, 2014. The Record of Approval, as well as other evaluation materials and the documents comprising the submittal, are available for review at the FAA office listed above and at the administrative office of Martin County. The Record of Approval also will be available on-line at: http://www.faa.gov/airports_airtraffic/airports/environmental/airport_noise/part_150/states/.

Issued in Orlando, FL, on June 16, 2014 by:
Bart Vernace,
Manager, Orlando Airports District Office.

[FR Doc. 2014-14894 Filed 6-25-14; 8:45 am]

BILLING CODE 4910-13-P